DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its forty-third meeting. The meeting will be open to the public.

Name: National Advisory Committee on Rural Health and Human Services.

Date and Time: March 2, 2003, 2 p.m.-5 p.m.; March 3, 2003, 8:30 a.m.-5 p.m.; March 4, 2003, 8:30 a.m.-3 p.m.

Place: Grand Hyatt Washington, 1000 H Street, NW., Washington, DC 20001-4520.

Purpose: The National Advisory Committee on Rural Health and Human Services provides advice and recommendations to the Secretary with respect to the delivery, research, development and administration of health and human services in rural areas.

Agenda: Sunday afternoon, March 2, at 2 p.m., the Chairperson, the Honorable David Beasley, will open the meeting and welcome the Committee. The first session will open with a discussion of the Meeting Agenda and Goals by the Office of Rural Health Policy (ORHP) Acting Deputy Director, Mr. Tom Morris. This will be followed by a discussion of the Committee's role in the Department, administrative business, and the Committee's 2003 Agenda.

Monday morning, March 3, at 8:30 a.m. the session will open with a presentation by the Deputy Administrator, Health Resources and Services Administration, and an update by ORHP. After the break, the Committee will discuss and approve the 2002 projects, the report on rural health care quality and the white paper on the rural workforce. After lunch, there will be presentations on three topics relating to the Committee's 2003 workplan.

The final session will be convened Tuesday morning, March 4, at 8:30 a.m. The Committee will discuss the strategic plan, future agenda, and the selection of a Steering Committee. The strategic planning will continue after lunch. The meeting will conclude with a discussion of the June and September meetings. The meeting will be adjourned at 3 p.m.

FOR FURTHER INFORMATION CONTACT: Anyone requiring information regarding the Committee should contact Tom Morris, MPA, Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: January 29, 2003.
Jane M. Harrison,
Director, Division of Policy Review and Coordination.

[FR Doc. 03-2659 Filed 2-4-03; 8:45 am]

BILLING CODE 4165-15-P